DEPARTMENT OF DEFENSE

Office of the Secretary

Defense Science Board

ACTION: Notice of Advisory Committee Meetings.

SUMMARY: The Defense Science Board Task Force on Global Positioning Systems will meet in closed session on January 12-13, January 20-21, and January 24-25, 2000, at 3601 Wilson Boulevard, Suite 600, Arlington, Virginia 22203.

The mission of the Defense Science Board is to advise the Secretary of Defense and the Under Secretary of Defense for Acquisition, Technology & Logistics on scientific and technical matters as they affect the perceived needs of the Department of Defense. At these meetings, the Defense Science Board Task Force will receive briefings and discuss interim findings and tentative recommendations resulting from ongoing activities.

In accordance with Section 10(d) of the Federal Advisory Committee Act, P.L. No. 92-463, as amended (5 U.S.C. App. II, (1994)), it has been determined that these Defense Science Board meetings, concern matters listed in 5 U.S.C. 552b(c) (1) (1994), and that accordingly these meetings will be closed to the public. However, due to critical mission requirements for a report by the end of January, the Task force is unable to provide timely notice of the above mentioned meetings.

Dated: January 14, 2000.
L.M. Bynum,
Alternate OSD Federal Register Liaison Officer, Department of Defense.

[FR Doc. 00-1545 Filed 1-21-00; 8:45 am]

BILLING CODE 5001-10-M